DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 18, 2002.

Interested persons are invited to submit written comments regarding the subject matter of the investigations to the Director, Division of Trade Adjustment Assistance, at the address shown below, not later than October 18, 2002.

The petitions filed in this case are available for inspection at the Office of the Director, Division of Trade Adjustment Assistance, Employment and Training Administration, U.S. Department of Labor, Room C-5311, 200 Constitution Avenue, NW., Washington, DC, 20210.

Signed at Washington, DC, this 9th day of September, 2002.
Edward A. Tomchick,
Director, Division of Trade Adjustment Assistance.

Appendix
[Petitions instituted on 9/9/2002]
TA-W | Subject firm (petitioners) | Location | Date of petition | Product(s)
42,069 | Aerus, LLC (Co.) | Piney Flats, TN | 09/03/2002 | Handheld Vacuum Power Nozzle Wands.
42,070 | Athens Products (Co.) | Athens, TN | 08/09/2002 | Hermetic Stators and Rotors.
42,071 | Marconi (Co.) | Toccoa, GA | 08/15/2002 | Connection Equipment.
42,072 | Federal Mogul Corporation (Co.) | Brighton, MA | 08/21/2002 | Friction Products, Automotive Brakes.
42,073 | Wilson Sporting Goods (Co.) | Tullahoma, TN | 08/15/2002 | Golf Clubs.
42,074 | Gerson and Gerson (Co.) | Middlesex, NC | 08/08/2002 | Infants', Toddlers' and Girls' Dresses.
42,075 | LaCrosse Footwear (Co.) | Hillsboro, WI | 08/06/2002 | Neoprene Waders, Nylon Waders, PAC Boots.
42,076 | Weyerhaeuser (Co.) | Albany, OR | 08/27/2002 | Tree Harvesting.
42,077 | Bijur Lubricating Corp. (Co.) | Bennington, VT | 08/20/2002 | Centralized Lubricating Systems.
42,078 | Americal Corporation (Co.) | Goldsboro, NC | 08/19/2002 | Knitted Sheer Hosiery.
42,079 | Nabors Alaska Drilling (Co.) | Anchorage, AK | 08/20/2002 | Oil Exploration.
42,080 | Johnstown Knitting Mill (Co.) | Johnstown, NY | 08/20/2002 | T-Shirts, Sweatshirts, Underwear, etc.
42,081 | Nordic Gear (Co.) | Millersburg, PA | 08/28/2002 | Sewn Fleece Accessories.
42,082 | Nordic Gear (Co.) | Newport, PA | 08/28/2002 | Sewn Fleece Accessories.
42,083 | Bausch and Lomb (Co.) | Rochester, NY | 09/03/2002 | Contact Lenses.
42,084 | Laurel Mould Inc. (Wkrs) | Greensburg, PA | 08/22/2002 | Moulds for Glass Industry.
42,085 | Sterling Dula Architectur (Wkrs) | Erie, PA | 03/11/2002 | Metal Railings.
42,086 | Potlatch (Wkrs) | Warren, AR | 08/01/2002 | Lumber.
42,087 | Milwaukee Electric Tool (Wkrs) | Brookfield, WI | 06/19/2002 | Tools.
42,088 | Lucent (Wkrs) | Mount Olive, NJ | 08/22/2002 | Wireless Base Stations for Cell Phones.
42,089 | U.S. Manufacturing Corp. (Wkrs) | Bad Axe, MI | 08/06/2002 | Automotive Parts.
42,090 | Ames True Temper (USWA) | Parkersburg, WV | 08/26/2002 | Shovels, Rakes, Hoes, Pitchforks.
42,091 | George Fisher Foundry (Wkrs) | Holly, MI | 08/16/2002 | Mold Lines, Core Machines, Grinders.
42,092 | JTM Group (Wkrs) | Jamestown, NY | 08/11/2002 | Plastic Injection Molds.
42,093 | Ames True Temper (Wkrs) | Kane, PA | 06/03/2002 | Wooden Handles.
42,094 | Spectrum Control Inc. (Wkrs) | Erie, PA | 08/15/2002 | AC Power Distribution Unit.
42,095 | K.T. Mold and Mfg. (Co.) | Woodstock, IL | 08/18/2002 | Plastic Injection Molds.
42,096 | Ralph Lauren Womenswear (Co.) | Carlstadt, NJ | 08/26/2002 | Women's Sportswear.
42,097 | Jones Apparel Group USA (Wkrs) | El Paso, TX | 08/21/2002 | Ladies Suits, Pants, and Jackets.
42,098 | Pliant Solutions (PACE) | Fort Edward, NY | 08/28/2002 | Printed Pattern Vinyl.
42,099 | Agilent Technologies (Wkrs) | Everett, WA | 08/17/2002 | Digital Analyzers.
42,100 | Savane International (Wkrs) | El Paso, TX | 08/02/2002 | Fabric Cutting.
42,101 | Carmet Co. (Wkrs) | Duncan, SC | 08/21/2002 | Spray Nozzles, Drill Bits, Saw Blades.
42,102 | Northern Engraving (Wkrs) | Lansing, IA | 08/15/2002 | Decorative Metals and Plastics.
42,103 | Kodak Polychrome Graphics (Wkrs) | Holyoke, MA | 08/09/2002 | Lithographic Printing Plates.
42,104 | Motor Products (Wkrs) | Barberton, OH | 08/14/2002 | Magnet DC Motors.
42,105 | Hershey Food (Wkrs) | Pennsburg, PA | 08/21/2002 | Chocolate.
42,106 | Pyramid Industries (Wkrs) | Erie, PA | 06/21/2002 | Plastic Conduit, Plastic Waterpipes.
42,107 | Bath Unlimited, Inc (Wkrs) | Passaic, NJ | 08/28/2002 | Shower Heads, Flappers, Ballcocks.
42,108 | Harvard Industries (UAW) | Jackson, MI | 10/23/2001 | Automotive Cooling Fans.

[FR Doc. 02-25666 Filed 10-8-02; 8:45 am]

BILLING CODE 4510-30-M